DEPARTMENT OF HEALTH AND HUMAN SERVICES

Centers for Medicare & Medicaid Services

[CMS-9893-N]

Meeting Date for Ground Ambulance and Patient Billing (GAPB) Advisory Committee—August 16, 2023

AGENCY: Centers for Medicare & Medicaid Services (CMS), Department of Health and Human Services (HHS).

ACTION: Notice of meeting.

SUMMARY: This notice announces the second public meeting of the Ground Ambulance and Patient Billing (GAPB) Advisory Committee on August 16, 2023. The GAPB Advisory Committee will make recommendations with respect to the disclosure of charges and fees for ground ambulance services and insurance coverage, consumer protection and enforcement authorities of the Departments of Labor, Health and Human Services, and the Treasury (the Departments) and relevant States, and the prevention of balance billing to consumers. The recommendations will address options, best practices, and identified standards to prevent instances of balance billing; steps that can be taken by State legislatures, State insurance regulators, State attorneys general, and other State officials as appropriate, consistent with current legal authorities regarding consumer protection; and, legislative options for Congress to prevent balance billing.

DATES:

Virtual Meeting Date: The GAPB Advisory Committee will hold a virtual meeting on Wednesday, August 16, 2023, from 9:30 a.m. to 5:30 p.m., Eastern Daylight Time.

Registration Link: The virtual meeting will be open to the public and held via the Zoom webinar platform. Virtual attendance information will be provided upon registration. To register for this virtual meeting visit: https://priforum.zoomgov.com/webinar/register/WN_fRPS8zNkQbOl1GZux_M-eA. Attendance is open to the public subject to any technical or capacity limitations.

Deadline for Registration: All individuals who plan to attend the virtual public meeting must register to attend. The deadline to register for the public meeting is Tuesday, August 15, 2023. Interested parties are encouraged to register as far in advance of the meeting as possible. A detailed agenda and materials will be available prior to the meeting on the GAPB Advisory Committee website at: https://www.cms.gov/regulations-guidance/advisory-committees/advisory-committee-ground-ambulance-and-patient-billing-gapb.

A recording and a summary of the meeting will be made available on the GAPB Advisory Committee website within 45 calendar days after the meeting.

ADDRESSES: Virtual Meeting Location: The August 16, 2023, public meeting will be held virtually via Zoom only.

FOR FURTHER INFORMATION CONTACT: Shaheen Halim, CMS, by phone (410) 786-0641 or via email at gapbadvisorycommittee@cms.hhs.gov.

Press inquiries may be submitted by phone at (202) 690-6145 or via email at press@cms.hhs.gov.

SUPPLEMENTARY INFORMATION:

I. Background

Section 117(a) of the No Surprises Act, enacted as part of the Consolidated Appropriations Act, 2021, div. BB, tit. I, Public Law 116-260 (Dec. 27, 2020), requires the Secretaries of the Departments of Labor, the Department of Health and Human Services (HHS), and the Treasury (collectively, the Departments) to establish and convene an advisory committee for the purpose of reviewing options to improve the disclosure of charges and fees for ground ambulance services, better inform consumers of insurance options for such services, and protect consumers from balance billing. The GAPB Advisory Committee is governed by the provisions of the Federal Advisory Committee Act (FACA), Public Law 92-463 (Oct. 6, 1972), as amended, 5 U.S.C. app. 2. The GAPB Advisory Committee held its first meeting on May 2, 2023 and May 3, 2023. Information on past and current Committee activity can be found at: https://www.cms.gov/regulations-guidance/advisory-committees/advisory-committee-ground-ambulance-and-patient-billing-gapb.

II. Advisory Committee Membership Roster

On November 23, 2021, HHS published a Notice of Charter and Invitation for Member Nominations in the Federal Register for the GAPB Advisory Committee (86 FR 66565 through 66566). The Departments evaluated the nominees for alignment with the membership categories required under section 117 of the No Surprises Act, their professional qualifications, recognition by the ground ambulance and emergency medical services community, years of relevant experience, experience with State or Federal committees on related issues, and expertise in subject matter to be addressed by the committee. The Departments also considered membership balance as required by the FACA, and as appropriate to address health equity issues pertaining to ground ambulance consumer balance billing, and ground ambulance services in underserved communities. On December 16, 2022, HHS published a Federal Register notice, announcing the 17 Members of the GAPB Advisory Committee (87 FR 77122 through 77123). A subsequent update to the Committee Roster was published on April 14, 2023 (88 FR 23046).

The 17 Members of the GAPB Advisory Committee are as follows:

• Asbel Montes—Committee Chairperson; Additional Representative determined necessary and appropriate by the Secretaries.

• Ali Khawar—Secretary of Labor's Designee.

• Carol Weiser—Secretary of the Treasury's Designee.

• Rogelyn McLean—Secretary of Health and Human Services' Designee.

• Gamunu Wijetunge—Department of Transportation—National Highway Traffic Safety Administration.

• Suzanne Prentiss—State Insurance Regulators.

• Adam Beck—Health Insurance Providers.

• Patricia Kelmar—Consumer Advocacy Groups.

• Gary Wingrove—Patient Advocacy Groups.

• Ayobami Ogunsola—State and Local Governments.

• Ritu Sahni—Physician specializing in emergency, trauma, cardiac, or stroke.

• Peter Lawrence—State Emergency Medical Services Officials.

• Shawn Baird—Emergency Medical Technicians, Paramedics, and Other Emergency Medical Services Personnel.

• Edward Van Horne—Representative of Various Segments of the Ground Ambulance Industry.

• Regina Godette-Crawford—Representative of Various Segments of the Ground Ambulance Industry.

• Rhonda Holden—Representative of Various Segments of the Ground Ambulance Industry.

• Loren Adler—Additional Representative determined necessary and appropriate by the Secretaries

The GAPB Advisory Committee Roster is also available on the GAPB Advisory Committee website at: https://www.cms.gov/regulations-guidance/advisory-committees/advisory-committee-ground-ambulance-and-patient-billing-gapb. All future updates to the Advisory Committee Roster will be published on this website.

III. Meeting Agenda

The second public meeting of the GAPB Advisory Committee will take place on August 16, 2023. During this meeting, the Committee will review and discuss preliminary findings and recommendations from its two subcommittees. The agenda will cover the following topics:

• Preliminary findings and recommendations of the GAPB Advisory Committee's subcommittee on Network Adequacy and Cost/Payment Structures.

• Preliminary findings and recommendations of the GAPB Advisory Committee's subcommittee on Public/Consumer Disclosures and Protections.

A more detailed agenda and materials will be made available prior to the meeting on the GAPB Advisory Committee website (listed previously).

Anticipated Dates for Future GAPB Advisory Committee Meetings

The Centers for Medicare & Medicaid Services (CMS) expects to convene future GAPB Advisory Committee Meetings on the following dates: October 31, 2023 and November 1, 2023. Agendas and registration information for future meeting dates will be published in the Federal Register and on the GAPB Advisory Committee website closer to the anticipated meeting dates, which are subject to change.

IV. Public Participation

The August 16, 2023, GAPB Advisory Committee meeting will be open to the public. Attendance may be limited due to virtual meeting constraints. Interested parties are encouraged to register as far in advance of the meeting as possible. To register for the meeting visit: https://www.cms.gov/regulations-guidance/advisory-committees/advisory-committee-ground-ambulance-and-patient-billing-gapb. CMS is committed to providing equal access to this meeting for all participants and to ensuring section 508 compliance. Closed captioning will be provided. To request alternative formats or services because of a disability, such as sign language interpreters or other ancillary aids, refer to the appropriate contact listed in the FOR FURTHER INFORMATION CONTACT section.

V. Submitting Written Comments

Members of the public may submit written comments for consideration by the Committee at any time via email to gapbadvisorycommittee@cms.hhs.gov. Additionally, members of the public will have the opportunity to submit comments during the August 16, 2023, virtual meeting through the chat feature of the Zoom webinar platform. Members of the public are encouraged to submit lengthy written comments on topics discussed during the meeting to the email address in the DATES section by September 5, 2023, to ensure timely consideration by the Committee.

VI. Viewing Documents

You may view the documents discussed in this notice at https://www.cms.gov/regulations-guidance/advisory-committees/advisory-committee-ground-ambulance-and-patient-billing-gapb.

The Administrator of CMS, Chiquita Brooks-LaSure, having reviewed and approved this document, authorizes Evell J. Barco Holland, who is the Federal Register Liaison, to electronically sign this document for purposes of publication in the Federal Register.

Evell J. Barco Holland,
Federal Register Liaison, Centers for Medicare & Medicaid Services.

[FR Doc. 2023-16146 Filed 7-28-23; 8:45 am]

BILLING CODE 4120-01-P